INTERNATIONAL TRADE COMMISSION

[Investigation No. 731-TA-1315 (Review)]

Ferrovanadium From South Korea

Determination

On the basis of the record ¹ developed in the subject five-year review, the United States International Trade Commission (“Commission”) determines, pursuant to the Tariff Act of 1930 (“the Act”), that revocation of the antidumping duty order on ferrovanadium from South Korea would be likely to lead to continuation or recurrence of material injury to an industry in the United States within a reasonably foreseeable time.

¹ The record is defined in § 207.2(f) of the Commission's Rules of Practice and Procedure (19 CFR 207.2(f)).

Background

The Commission instituted this review on April 1, 2022 (87 FR 19129) and determined on July 5, 2022 that it would conduct an expedited review (87 FR 63090, October 18, 2022).

The Commission made this determination pursuant to section 751(c) of the Act (19 U.S.C. 1675(c)). It completed and filed its determination in this review on November 15, 2022. The views of the Commission are contained in USITC Publication 5384 (November 2022), entitled Ferrovanadium from South Korea: Investigation No. 731-TA-1315 (Review).

By order of the Commission.
Issued: November 15, 2022.
Katherine Hiner,
Acting Secretary to the Commission.

[FR Doc. 2022-25249 Filed 11-18-22; 8:45 am]

BILLING CODE 7020-02-P